DEPARTMENT OF TRANSPORTATION

National Highway Traffic Safety Administration

[Docket No. NHTSA 2002-11420, Notice 1]

DaimlerChrysler Corporation; Receipt of Application for Decision of Inconsequential Noncompliance

DaimlerChrysler Corporation (DaimlerChrysler) has determined that approximately 28,265 of its model year 2002 RS vehicles (Dodge and Chrysler mini vans) do not meet the labeling requirements of paragraph S5.3 of Federal Motor Vehicle Safety Standard (FMVSS) No. 120 “Tire Selection and Rims for Motor Vehicles Other than Passenger Cars.” Pursuant to 49 U.S.C. 30118(d) and 30120(h), DaimlerChrysler has petitioned for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

DaimlerChrysler determined that the rim size was inadvertently omitted from the tire size designation included on the certification label affixed to 28,265 of its model year 2002 RS vehicles. The recommended tire size designation for these vehicles is P215/65R16. Due to an error in the printing process, the rim size designation number, specifically the number 16, was inadvertently omitted from the certification label. As a result, the recommended tire size designation on the vehicle's certification label reads as “P215/65R,” rather than “P215/65R16.”

DaimlerChrysler believes that the noncompliance is inconsequential to motor vehicle safety for several reasons. First, the noncompliant 2002 RS vehicles were constructed with P215/65 R16 tires. DaimlerChrysler believes that most vehicle owners, dealers, and tire service technicians would refer to the vehicles' existing tires (specifically P215/65 R16 tires) to determine the appropriate size for a replacement tire rather than to the certification label. Second, the certification label lists the complete designated rim size, including the rim diameter, appropriate for the P215/65 R16 tires.

The purpose of S5.3 is to ensure that vehicle owners can readily determine the appropriate size replacement tire for their particular vehicle. DaimlerChrysler is confident that sufficient information is available to fulfill the safety purpose of S5.3 despite the noncompliance. As discussed above, individual vehicle owners can refer to the tire currently installed on the vehicle, the vehicle's recommended rim size, and the vehicle owner's manual to determine the appropriate tire size for the vehicle. DaimlerChrysler believes, therefore, that the noncompliance is inconsequential to motor vehicle safety because, despite the noncompliance, sufficient information is available to inform the owners as to the appropriate size for a replacement tire for the vehicles at issue.

DaimlerChrysler cited several petitions for inconsequential noncompliance filed by tire and vehicle manufacturers over the past 15 years. The petitions, which were granted by the agency, involved tire, rim and vehicle placard labeling issues similar to noncompliance issues in this petition.

Interested persons are invited to submit written data, views and arguments on the application described above. Comments should refer to the docket number and be submitted to: U.S. Department to Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below.

Comment closing date: March 8, 2002.

(49 U.S.C. 301118, 301120; delegations of authority at 49 CFR 1.50 and 501.8)

Issued on: February 1, 2002.
Stephen R. Kratzke,
Associate Administrator, for Safety Performance Standards.

[FR Doc. 02-2827 Filed 2-5-02; 8:45 am]

BILLING CODE 4910-59-P